DEPARTMENT OF COMMERCE

National Oceanic and Atmospheric Administration

[I.D. 040902A]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Management Team (CPSMT) will hold a work session, which is open to the public.

DATES: The CPSMT will meet Monday, April 29, 2002 and Tuesday, April 30, 2002. On Monday, April 29th, the CPSMT will meet from 10 a.m. until 5 p.m. On Tuesday, April 30th, the CPSMT will meet from 8 a.m. until business for the day is completed.

ADDRESSES: The work session will be held at the NMFS Southwest Fisheries Science Center, 8604 La Jolla Shores Drive, La Jolla, CA 92037; telephone: (858) 546-7000. On Monday, April 29th, the CPSMT will meet in the large conference room, Room D-203. On Tuesday, April 30th, the CPSMT will meet in Room A-214.

Council address: Pacific Fishery Management Council, 7700 NE Ambassador Place, Suite 200, Portland, OR 97220-1384.

FOR FURTHER INFORMATION CONTACT: Dan Waldeck, Pacific Fishery Management Council; (503) 326-6352.

SUPPLEMENTARY INFORMATION: The primary purpose of the work session is to initiate development of the 2002 stock assessment and fishery evaluation (SAFE) document for coastal pelagic species. The CPSMT will also discuss issues related to sea surface temperature and its affect on the Pacific sardine harvest guideline formula.

Although nonemergency issues not contained in the CPSMT meeting agenda may come before the CPSMT for discussion, those issues may not be the subject of formal CPSMT action during this meeting. CPSMT action will be restricted to those issues specifically listed in this document and any issues arising after publication of this document that require emergency action under section 305(c) of the Magnuson-Stevens Fishery Conservation and Management Act, provided the public has been notified of the CPSMT's intent to take final action to address the emergency.

Special Accommodations

The meeting is physically accessible to people with disabilities. Requests for sign language interpretation or other auxiliary aids should be directed to Ms. Carolyn Porter at (503) 326-6352 at least 5 days prior to the meeting date.

Dated: April 9, 2002.
Richard W. Surdi,
Acting Director, Office of Sustainable Fisheries, National Marine Fisheries Service.

[FR Doc. 02-9085 Filed 4-12-02; 8:45 am]

BILLING CODE 3510-22-S